DEPARTMENT OF THE INTERIOR

National Park Service

[NPS-WASO-NAGPRA-22773; PPWOCRADN0-PCU00RP14.R50000]

Notice of Inventory Completion: Arkansas State Highway and Transportation Department, Little Rock, AR

AGENCY: National Park Service, Interior.

ACTION: Notice.

SUMMARY: The Arkansas State Highway and Transportation Department has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Arkansas State Highway and Transportation Department. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Arkansas State Highway and Transportation Department at the address in this notice by March 27, 2017.

ADDRESSES: Kristina Boykin, Arkansas State Highway and Transportation Department, P.O. Box 2261, Little Rock, AR 72203, telephone (501) 569-2079, email Kristina.Boykin@ahtd.AR.gov.

SUPPLEMENTARY INFORMATION: Notice is here given in accordance with the Native American Graves Protection and Repatriation Act (NAGPRA), 25 U.S.C. 3003, of the completion of an inventory of human remains under the control of the Arkansas State Highway and Transportation Department. The human remains were removed from multiple counties in Arkansas.

This notice is published as part of the National Park Service's administrative responsibilities under NAGPRA, 25 U.S.C. 3003(d)(3). The determinations in this notice are the sole responsibility of the museum, institution, or Federal agency that has control of the Native American human remains. The National Park Service is not responsible for the determinations in this notice.

History and Description of the Remains

In 1974, human remains representing, at minimum, three individuals were recovered from Sylamore Ferry site (3ST26) in Stone County, AR. A portion of the Sylamore Ferry site was going to be impacted by Arkansas State Highway and Transportation Department (AHTD) construction. The excavations were undertaken by the AHTD, and the human remains were stored at Texas A&M University. In 1985, the human remains were returned to the AHTD and then eventually were taken for permanent storage to the Arkansas Archeological Survey (AAS). The gender and age of the human remains were undetermined. No known individuals were identified. No associated funerary objects are present. Diagnostic artifacts found at the Sylamore Ferry site (3ST26) indicate that the human remains were probably buried during the Mississippian period (A.D. 1100 to 1600).

In 1988, human remains representing, at minimum, one individual were recovered from site 3LW15 in Lawrence County, AR, during preliminary analysis of the U.S. Highway 67 relocation in northeast Arkansas. No further work was done at this site because it was not within the project's footprint. The human remains have remained in the AAS's collections since the time of their removal. The gender and age of the human remains were undetermined. No known individuals were identified. No associated funerary objects are present. Diagnostic artifacts found at site 3LW15 indicate that these human remains were probably buried during the Mississippian period (A.D. 900 to 1500).

In 1995, human remains representing, at minimum, two individuals were recovered from site 3CG1059 in Craighead County, AR. The burials were discovered during Phase II excavation for the construction of Cash Bypass. The AHTD contracted the excavations out to the Center of Archaeological Research at Southwest Missouri State University. The human remains were transferred to the AAS for curation. The human remains were identified as two adults. The gender of the human remains was undetermined. No known individuals were identified. No associated funerary objects are present. Diagnostic artifacts found at site 3CG1059 indicate that these human remains were probably buried possibly during the Mississippian period (A.D. 900 to 1500).

In 1996, human remains representing, a minimum, six individuals were recovered from the Holden-Conner site (3JA632) in Jackson County, AR, during Phase III mitigation for the expansion and relocation of U.S. Highway 67. The AHTD contracted the excavations out to the Center of Archaeological Research at Southwest Missouri State University. The human remains were transferred to the AAS for curation. The human remains were identified as one infant (1-4 years), three children (4-8 years), and two young adults (16 to 21 years). The gender of the human remains was undetermined. No known individuals were identified. No associated funerary objects are present. Diagnostic artifacts found at site 3JA632 indicate that these human remains were probably buried during the Late Mississippian period (A.D. 1400 to 1650).

Determinations Made by the Arkansas State Highway and Transportation Department

Officials of the Arkansas State Highway and Transportation Department have determined that:

• Pursuant to 25 U.S.C. 3001(9), the human remains described in this notice represent the physical remains of 12 individuals of Native American ancestry.

• Pursuant to 25 U.S.C. 3001(2), there is a relationship of shared group identity that can be reasonably traced between the Native American human remains and the Caddo Nation of Oklahoma, Cherokee Nation, The Osage Nation (previously listed as the Osage Tribe), The Quapaw Tribe of Indians, Tunica-Biloxi Indian Tribe, and United Keetoowah Band of Cherokee Indians in Oklahoma.

Additional Requestors and Disposition

Lineal descendants or representatives of any Indian tribe or Native Hawaiian organization not identified in this notice that wish to request transfer of control of these human remains should submit a written request with information in support of the request to Kristina Boykin, Arkansas State Highway and Transportation Department, P.O. Box 2261, Little Rock, AR 72203, telephone (501) 569-2079, email Kristina.Boykin@ahtd.AR.gov, by March 27, 2017. After that date, if no additional requestors have come forward, transfer of control of the human remains to the Caddo Nation of Oklahoma, Cherokee Nation, the Osage Nation (previously listed as the Osage Tribe), the Quapaw Tribe of Indians, Tunica-Biloxi Indian Tribe, and the United Keetoowah Band of Cherokee Indians in Oklahoma may proceed.

The Arkansas State Highway and Transportation Department is responsible for notifying the Caddo Nation of Oklahoma, Cherokee Nation of Oklahoma, the Osage Nation (previously listed as the Osage Tribe), the Quapaw Tribe of Indians, Tunica-Biloxi Indian, and the United Keetoowah Band of Cherokee Indians in Oklahoma that this notice has been published.

Dated: January 24, 2017.
Melanie O'Brien,
Manager, National NAGPRA Program.

[FR Doc. 2017-03635 Filed 2-23-17; 8:45 am]

BILLING CODE 4312-52-P